NUCLEAR REGULATORY COMMISSION

[Docket Nos. 50-277 and 50-278; NRC-2024-0214; SEIS-429-00-000-1734688863]

Constellation Energy Generation, LLC; Peach Bottom Atomic Power Station Units 2 and 3; Final Supplement to Environmental Impact Statement

AGENCY: Nuclear Regulatory Commission.

ACTION: Notice; issuance.

SUMMARY: The U.S. Nuclear Regulatory Commission (NRC) has published a final supplement to a final supplemental environmental impact statement (SEIS), issued as NUREG-1437, Supplement 10, Second Renewal, Supplement 1, “Generic Environmental Impact Statement for License Renewal of Nuclear Plants Regarding Subsequent License Renewal for Peach Bottom Atomic Power Station Units 2 and 3, Final Report.” This document concerns the NRC staff's review of the environmental impacts of the proposed subsequent renewal of Renewed Facility Operating License Nos. DPR-44 and DPR-56 for Peach Bottom Atomic Power Station (Peach Bottom) Units 2 and 3, respectively, for an additional 20 years. Peach Bottom is located primarily in Peach Bottom Township, York County, Pennsylvania, near Delta, Pennsylvania. Possible alternatives to the proposed action of subsequent license renewal include the no-action alternative and reasonable replacement power alternatives.

DATES: NUREG-1437, Supplement 10, Second Renewal, Supplement 1 is available as of August 22, 2025.

ADDRESSES: Please refer to Docket ID NRC-2024-0214 when contacting the NRC about the availability of information regarding this document. You may obtain publicly available information related to this document using any of the following methods:

• Federal Rulemaking Website: Go to https://www.regulations.gov and search for Docket ID NRC-2024-0214. Address questions about Docket IDs in Regulations.gov to Bridget Curran; telephone: 301-415-1003; email: Bridget.Curran@nrc.gov. For technical questions contact the individual(s) listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 10, Second Renewal, Supplement 1 is available in ADAMS under Accession No. ML25191A237.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of NUREG-1437, Supplement 10, Second Renewal, Supplement 1 will be available for public review at the Harford County Public Library—Whiteford Branch, 2407 Whiteford Road, Whiteford, MD 21160.

FOR FURTHER INFORMATION CONTACT: Kevin Folk, Office of Nuclear Material Safety and Safeguards, U.S. Nuclear Regulatory Commission, Washington, DC 20555-0001; telephone: 301-415-6944; email: Kevin.Folk@nrc.gov.

SUPPLEMENTARY INFORMATION:

I. Background

In accordance with section 51.118 of title 10 of the Code of Federal Regulations, “Final environmental impact statement—notice of availability,” the NRC is making available to the public NUREG-1437, Supplement 10, Second Renewal, Supplement 1 regarding the subsequent renewal of Renewed Facility Operating License Nos. DPR-44 and DPR-56 for an additional 20 years for Peach Bottom. A notice of availability of the draft supplement, which updated the 2020 final SEIS, was published in the Federal Register on May 30, 2025 (90 FR 23075). The U.S. Environmental Protection Agency issued its notice of availability of the draft supplement on May 30, 2025 (90 FR 23050). The public comment period on the draft supplement ended on July 14, 2025, and the comments received on the draft supplement are addressed in the final supplement.

II. Discussion

The draft supplement, which updated the 2020 final SEIS, was issued for public comment on May 30, 2025. The final supplement (NUREG-1437, Supplement 10, Second Renewal, Supplement 1) addresses the comments received on the draft supplement. As discussed in Chapter 4 of the final supplement, the NRC staff has determined that the adverse environmental impacts of subsequent license renewal for Peach Bottom (i.e., the continued operation of Peach Bottom for a period of 20 years beyond the expiration dates of the current licenses) are not so great that preserving the option of license renewal for energy-planning decisionmakers would be unreasonable. This recommendation is based on: (1) information in the environmental report, as supplemented, and other documents submitted by Constellation Energy Generation, LLC; (2) the NRC staff's consultation with Federal, State, Tribal, and local governmental agencies; (3) the NRC staff's independent environmental review; and (4) the NRC staff's consideration of public comments received during the scoping process and on the draft of the 2020 final SEIS and the draft supplement.

Dated: August 21, 2025.
For the Nuclear Regulatory Commission.
Kimyata Savoy,
Acting Deputy Director, Division of Rulemaking, Environmental, and Financial Support, Office of Nuclear Material Safety, and Safeguards.

[FR Doc. 2025-16594 Filed 8-28-25; 8:45 am]

BILLING CODE 7590-01-P